DEPARTMENT OF THE INTERIOR

National Park Service

[DOI-2022-0005; PPWONRADD7/PPMRSNR1Y.NM0000]

Privacy Act of 1974; System of Records

AGENCY: National Park Service, Interior.

ACTION: Notice of a new system of records.

SUMMARY: Pursuant to the provisions of the Privacy Act of 1974, as amended, the Department of the Interior (DOI) is issuing a public notice of its intent to create the National Park Service (NPS) Privacy Act system of records, INTERIOR/NPS-25, Research Permit and Reporting System (RPRS). This system is a service-wide, internet-based system which supports the application, permitting, and reporting processes associated with the NPS Scientific Research and Collecting Permit. The newly established system will be included in DOI's inventory of record systems.

DATES: This new system will be effective upon publication. New routine uses will be effective July 1, 2022. Submit comments on or before July 1, 2022.

ADDRESSES: You may send comments identified by docket number [DOI-2022-0005] by any of the following methods:

• Federal eRulemaking Portal: http://www.regulations.gov. Follow the instructions for sending comments.

• Email: DOI_Privacy@ios.doi.gov. Include docket number [DOI-2022-0005] in the subject line of the message.

• U.S. mail or hand-delivery: Teri Barnett, Departmental Privacy Officer, U.S. Department of the Interior, 1849 C Street NW, Room 7112, Washington, DC 20240.

Instructions: All submissions received must include the agency name and docket number [DOI-2022-0005]. All comments received will be posted without change to http://www.regulations.gov, including any personal information provided.

Docket: For access to the docket to read background documents or comments received, go to http://www.regulations.gov.

FOR FURTHER INFORMATION CONTACT: Felix Uribe, Associate Privacy Officer, National Park Service, 12201 Sunrise Valley Drive, Reston, VA 20192, nps_privacy@nps.gov or 202-354-6925.

SUPPLEMENTARY INFORMATION:

I. Background

The NPS Office of Natural Resource Information Systems is establishing the INTERIOR/NPS-25, Research Permit and Reporting System (RPRS), system of records. The purpose of the system is to provide a service-wide, internet-based system that supports the application, permitting, and reporting processes associated with the NPS Scientific Research and Collecting Permit. RPRS is a single data system that is served through a central internet website and is hosted within the NPS Integrated Resource Management Application, which provides resource information to parks, partners, and the public. The website enables (1) members of the public to review synopses of the objectives and findings of scientific studies conducted in parks and the types of scientific activities park managers are most interested in attracting; (2) potential investigators to apply and review applications requirements and field work restrictions before applying for permission to conduct a study within a specific unit or units of the NPS; and (3) investigators to provide the required annual Investigator's Annual Report. Information in this system may be shared with individuals who conduct scientific research and collecting activities within the National Park System units and members of the public that are interested in learning about scientific research within the park units. To the extent permitted by law, information may be shared with Federal, state, local, and tribal agencies, and organizations as authorized and compatible with the purpose of this system, or when proper and necessary, consistent with the routine uses set forth in this system of records notice.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains, and the routine uses of each system. The INTERIOR/NPS-25, Research Permit and Reporting System (RPRS), system of records notice is published in its entirety below. In accordance with 5 U.S.C. 552a(r), DOI has provided a report of this system of records to the Office of Management and Budget and to Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/NPS-25, Research Permit and Reporting System (RPRS).

SECURITY CLASSIFICATION:

Unclassified.

SYSTEM LOCATION:

Natural Resource Stewardship and Science, Office of Natural Resource Information Systems, National Park Service, 1201 Oakridge Drive, Fort Collins, CO 80525.

SYSTEM MANAGER(S):

System Manager, Natural Resource Stewardship and Science, Office of Natural Resources Information Systems, National Park Service, 1849 C Street NW, Room 2649, Washington, DC 20240.

AUTHORITY FOR MAINTENANCE OF THE SYSTEM:

54 U.S.C. 100101, National Park Service Organic Act; 54 U.S.C., Rules and Regulations of National Parks, Reservations, and Monuments; Section 100705—54 U.S.C. 100701-100707, National Parks Omnibus Management Act.

PURPOSE(S) OF THE SYSTEM:

The purpose of the RPRS system is to support the application, permitting, and reporting processes associated with the NPS Scientific Research and Collecting Permit. The system enables members of the public to review synopses of the objectives and findings of permitted scientific studies conducted previously in parks, and search and review the types of scientific activities park managers are most interested in attracting; potential investigators to apply for permission to conduct natural or social science studies within a specific unit of the NPS System and to review permit application requirements and field work restrictions before applying for permission to conduct a study; and investigators granted permission to conduct studies within parks to more easily provide the Investigator's Annual Report.

CATEGORIES OF INDIVIDUALS COVERED BY THE SYSTEM:

Individuals covered by the system include:

(1) Persons who have submitted information in conjunction with applying for a

permit to conduct scientific research and collecting permits within units of the National Park System.

(2) Principal Investigators. The applicant who is a recipient of an NPS Scientific Research and Collecting Permit is considered the Principal Investigator for the permitted study.

(3) Persons identified as Co-investigators by the applicant within the RPRS application, by the permittee in the RPRS Investigator's Annual Report, or in the NPS Scientific Research and Collecting Permit by the park which issues the permit.

(4) NPS staff and contractors conducting scientific research within units of the National Park System.

(5) NPS staff, including Park Research Coordinators who administer park accounts within the RPRS; Superintendents and Curators of parks with RPRS accounts; and park staff responsible for recommending the approval of permit requests.

CATEGORIES OF RECORDS IN THE SYSTEM:

The categories of the records in the system include:

(1) Park Profile Records. The purpose of these records is to provide information to facilitate interactions between persons applying for or holding an NPS Scientific Research and Collecting Permit and park staff. Park research contact information consists of names of NPS staff or contractors who administer scientific research within park units, and the titles and names of the associated Park Superintendent, Park Personnel Recommending Permit Approvals, Park Personnel Approving Permits, Park Curator name and email address, and Park Research Coordinator contact information including name, business address, business fax number, business phone number, and business email address.

(2) Investigator Profile Records. Information in the records include Investigator name, business phone, alternate phone, business fax, business address, business email address, professional affiliation, and username, password and other information to create an investigator account and authenticate users' access to their records within RPRS.

(3) Application Records. This information is provided by the applicant and is required for a park to review and process the application for a Scientific Research and Collecting Permit. Information includes proposed collections, proposed disposition of collections, including name and business contact information of non-NPS repositories when an applicant proposes to have collections loaned to a non-NPS repository; name, business phone and business email of co-investigators; and other information about the proposed activity for the park to review the application. Additionally, Investigator Profile contact information is entered into the applicant's first application and automatically ported from the profile contact information into the on-line application form when the same applicant subsequently submits new applications. This data consists of business phone number, alternate business or personal phone number, business fax number, business address, and business email address.

(4) Scientific Research and Collecting Permit Records. These records contain profile and contact information on investigators and co-investigators that include name, business phone, business email address, and business institution; Investigator's Annual Report Records that include investigators' and co-investigators' name, business email address, business phone, and business address; and information, such as educational background, qualifications or other information provided by investigators during the application process or in correspondence with park staff.

(5) Field Visit Records. These records contain name of persons conducting a field visit on the permitted scientific research activities within the park, business phone number, vehicle description including license plate number if a vehicle is used to access the park, location of field visit, length of field visit, and temporary place of residence during a field visit to the park.

RECORD SOURCE CATEGORIES:

Information in the RPRS comes primarily from members of the public applying for a Scientific Research and Collecting Permit, permittees submitting required Investigator's Annual Reports, investigator profile records, and park profile records created by the park staff.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, state, territorial, local, tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, state, territorial, local, tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To state, territorial and local governments and tribal organizations to provide information needed in response to court order and/or discovery purposes related to litigation, when the disclosure is compatible with the purpose for which the records were compiled.

I. To an expert, consultant, grantee, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To members of the public to provide park contact information to facilitate communication with persons interested in conducting scientific research activities and to provide access to published Investigator's Annual Reports for the purpose of learning about scientific research in NPS units.

POLICIES AND PRACTICES FOR STORAGE OF RECORDS:

RPRS records reside on servers located in secure server rooms and are accessed only by authorized personnel pursuant to Departmental privacy policies and procedures. A quarterly copy of the RPRS data backup is stored in a permanent repository. Paper copies of RPRS records may be contained in the NPS Washington, regional, field and park offices and stored in file cabinets. NPS park offices may access, retrieve, and store a copy of the RPRS data within the individual park.

POLICIES AND PRACTICES FOR RETRIEVAL OF RECORDS:

Information from the RPRS is retrievable by names of Investigators who are Applicant/Permit holders, co-investigators; business contact information of the individual (i.e., email address, phone number); application number or title; permit number, study title, subject or type of study, study number; and Investigator's Annual Report permit number or study title and investigator's name.

NPS staff and contractors who are on the NPS network may query RPRS application, permit and Investigator's Annual Report data, and park profile data. The public access is limited to park profile data and Investigator's Annual Report data. In addition, members of the public who have entered a park profile into the system may review their own profile data.

POLICIES AND PRACTICES FOR RETENTION AND DISPOSAL OF RECORDS:

Records in this system are retained in accordance with the NPS Records Schedule for Resource Management and Lands (Item 1), which has been approved by NARA (Job No. N1-79-08-1) for records documenting the acquisition, planning, management, and protection of lands and natural and cultural resources under the stewardship of NPS. The disposition of the RPRS data set has a permanent retention.

ADMINISTRATIVE, TECHNICAL, AND PHYSICAL SAFEGUARDS:

Access to records in the RPRS system is limited to authorized personnel who have a need to access the records in the performance of their official duties, and each user's access is restricted to only the functions and data necessary to perform that person's job responsibilities. System administrators and authorized users are trained and required to follow established internal security protocols and must complete all security, privacy, and records management training and sign the DOI Rules of Behavior.

The records contained in this system are safeguarded in accordance with 43 CFR 2.226 and other applicable security and privacy rules and policies. During normal hours of operation, paper records are maintained in locked file cabinets under the control of authorized personnel. Computer servers on which RPRS electronic records are stored are in a secured DOI controlled facility with physical, technical, and administrative levels of security to prevent unauthorized access to the DOI network and information assets. The electronic data are protected through techniques of user identification, passwords, database permissions and software controls. These security measures include establishing different access levels for different types of users. Backup tapes are encrypted and stored in a locked and controlled room in a secure, off-site location.

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include user identification, passwords, database permissions, encryption, firewalls, audit logs, and network system security monitoring, and software controls.

Investigator's Annual Report submissions are checked in and reviewed to prevent disclosure of content that may impact park resources and operations. Access to NPS specific permissions in the RPRS are limited to authorized NPS users. NPS security features restricted access to that data which is identified as not suitable for public access to NPS employees and authorized NPS contractors.

NPS staff are provided permission to view all RPRS data except for unpublished Investigator's Annual Reports. Park account data is limited to that data which relates to a single unit of the National Park System (i.e., park profile information, applications submitted to the unit, permits issued by the unit, Investigator's Annual Reports related to permits issued by the unit, unit specific administrative data). Access to park accounts is limited to persons designated by the Park Superintendent. Administrative accounts provide permissions to administrate park account data as appropriate for the administrator's role of providing permissions to authorized individuals, and access to query or process the service-wide data. RPRS provides a help desk to disseminate information on security and privacy policies applicable to RPRS. NPS staffs are required to take an annual training session on privacy and records management and an annual training session on security. A Privacy Impact Assessment was conducted to ensure that Privacy Act requirements are met and appropriate privacy controls were implemented to safeguard the personally identifiable information contained in the system.

RECORD ACCESS PROCEDURES:

An individual requesting records on himself or herself should send a signed, written inquiry to the applicable System Manager identified above. The request must include the specific bureau or office that maintains the record to facilitate location of the applicable records. The request envelope and letter should both be clearly marked “PRIVACY ACT REQUEST FOR ACCESS.” A request for access must meet the requirements of 43 CFR 2.238.

CONTESTING RECORD PROCEDURES:

An individual requesting corrections or the removal of material from his or her records should send a signed, written request to the applicable System Manager as identified above. The request must include the specific bureau or office that maintains the record to facilitate location of the applicable records. A request for corrections or removal must meet the requirements of 43 CFR 2.246.

NOTIFICATION PROCEDURES:

An individual requesting notification of the existence of records on himself or herself should send a signed, written inquiry to the applicable System Manager as identified above. The request must include the specific bureau or office that maintains the record to facilitate location of the applicable records. The request envelope and letter should both be clearly marked “PRIVACY ACT INQUIRY.” A request for notification must meet the requirements of 43 CFR 2.235.

EXEMPTIONS PROMULGATED FOR THE SYSTEM:

None.

HISTORY:

None.

Teri Barnett,
Departmental Privacy Officer, Department of the Interior.

[FR Doc. 2022-11394 Filed 5-31-22; 8:45 am]

BILLING CODE 4312-52-P